DEPARTMENT OF HEALTH AND HUMAN SERVICES

Substance Abuse and Mental Health Services Administration

Agency Information Collection Activities: Proposed Collection; Comment Request

In compliance with Section 3506(c)(2)(A) of the Paperwork Reduction Act of 1995 concerning opportunity for public comment on proposed collections of information, the Substance Abuse and Mental Health Services Administration (SAMHSA) will publish periodic summaries of proposed projects. To request more information on the proposed projects or to obtain a copy of the information collection plans, call the SAMHSA Reports Clearance Officer on (240) 276-1243.

Comments are invited on: (a) Whether the proposed collections of information are necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology.

Proposed Project: Primary and Behavioral Health Care Integration Evaluation—NEW

The Substance Abuse and Mental Health Services Administration's (SAMHSA) Center for Behavioral Health Statistics and Quality (CBHSQ) is requesting approval from the Office of Management and Budget (OMB) for new data collection activities associated with their Primary and Behavioral Health Care Integration (PBHCI) program.

This information collection is needed to provide SAMHSA with objective information to document the reach and impact of the PBHCI program. The information will be used to monitor quality assurance and quality performance outcomes for organizations funded by this grant program. The information will also be used to assess the impact of services on behavioral health and physical health services for individuals served by this program.

Collection of the information included in this request is authorized by Section 505 of the Public Health Service Act (42 U.S.C. 290aa-4)—Data Collection.

SAMHSA launched the PBHCI program in FY 2009 with the understanding that adults with serious mental illness (SMI) experience heightened rates of morbidity and mortality, in large part due to elevated incidence and prevalence of risk factors such as obesity, diabetes, hypertension, and dyslipidemia. These risk factors are influenced by a variety of factors, including inadequate physical activity and poor nutrition; smoking; side effects from atypical antipsychotic medications; and lack of access to health care services. Many of these health conditions are preventable through routine health promotion activities, primary care screening, monitoring, treatment and care management/coordination strategies and/or other outreach programs.

The purpose of the PBHCI grant program is to establish projects for the provision of coordinated and integrated services through the co-location of primary and specialty care medical services in community-based behavioral health settings. The program's goal is to improve the physical health status of adults with serious mental illnesses (and those with co-occurring substance use disorders) who have or are at risk for co-occurring primary care conditions and chronic diseases.

As the largest federal effort to implement integrated behavioral and physical health care in community behavioral health settings, SAMHSA's PBHCI program offers an unprecedented opportunity to identify which approaches to integration improve outcomes, how outcomes are shaped by the characteristics of the treatment setting and community, and which models have the greatest potential for sustainability and replication. SAMHSA awarded the first cohort of 13 PBHCI grants in fiscal year (FY) 2009, and between FY 2009 and FY 2014, SAMHSA funded a total of seven cohorts comprising 127 grants. An eighth cohort, funded in fall 2015, included 60 new grants.

The data collection described in this request will build upon the first PBHCI evaluation and provide essential data on the implementation of integrated primary and behavioral health care, along with rigorous estimates of its effects on health.

The Center for Behavioral Health Statistics and Quality is requesting clearance for ten data collection instruments and forms related to the implementation and impact studies to be conducted as part of the evaluation:

1. PBHCI grantee director survey

2. PBHCI frontline staff survey

3. Telephone interview protocol

4. On-site staff interview protocol

5. Client focus group guide

6. Data extraction tool for grantee registry/electronic health records (EHRs)

7. Initial client letter for physical exam and health assessment

8. Consent form for client physical exam and health assessment

9. Consent form for client focus group

10. Client physical exam and health assessment questionnaire

The table below reflects the annualized hourly burden.

Respondents/activity | Number of respondents | Responses per respondent | Total responses | Hours per response | Total hour burden
Web surveys:
Grantee director | 78 | 2 | ᵇ 149 | 0.5 | ᵇ 75
Grantee frontline staff survey | 782 | 2 | ᶜ 1,494 | 0.5 | ᶜ 747
Phone interviews:
Grantee director | 60 | 1 | 60 | 1.0 | 60
Grantee director—site interview | 10 | 2 | 20 | 2.0 | 40
Grantee mental health providers—site interview | 40 | 2 | 80 | 1.0 | 80
Grantee primary care providers—site interview | 40 | 2 | 80 | 1.5 | 120
Grantee care coordinators—site interview | 20 | 2 | 40 | 1.5 | 60
Focus groups:
Focus group participants | 120 | 2 | 240 | 1.0 | 240
Extraction of grantee registry/EHR data | 92 | 11 | 1,012 | 8.0 | 8,096
SMI clients—baseline physical exam and health assessment | 2,500 | 1 | 2,500 | 1.0 | 2,500
SMI clients—follow-up physical exam and health assessment | 1,750 | 1 | 1,750 | 1.0 | 1,750
Comparison group clinic director—coordination ᵈ | 10 | 1 | 10 | 8.0 | 80
Total | ᵉ 3,752 |  | 7,435 |  | 13,848
ᵃ Hourly wage estimates are based on salary information provided in 10 PBHCI grant proposals representing mostly urban locations across the country and represent an average across responders of each type.
ᵇ Cohort VI funding ends before the administration of the second survey. Total number of responses excludes the Cohort VI directors, who will not receive the second survey.
ᶜ Cohort VI funding ends before the administration of the second survey. Total number of responses excludes the Cohort VI frontline staff, who will not receive the second survey.
ᵈ Includes logistical coordination between the evaluation and site staff to conduct the physical exam and health assessment as well as oversight of client recruitment.
ᵉ Excludes physical exam and health assessment follow-up respondents.

Send comments to Summer King, SAMHSA Reports Clearance Officer, 5600 Fishers Lane, Room 15E57-B, Rockville, Maryland, 20857. OR email her a copy at summer.king@samhsa.hhs.gov. Written comments should be received by May 10, 2016.

Summer King,
Statistician.

[FR Doc. 2016-05474 Filed 3-10-16; 8:45 am]

BILLING CODE 4162-20-P